DEPARTMENT OF AGRICULTURE

Forest Service

Information Collection; Timber Sale Contract Operations and Administration

AGENCY: Forest Service, USDA.

ACTION: Notice; request for comment

SUMMARY: In accordance with the Paperwork Reduction Act of 1995, the Forest Service is seeking comments from all interested individuals and organizations on the renewal of the currently approved information collection 0596-0225, Timber Sale Contract Operations and Administration.

DATES: Comments must be received in writing on or before February 2, 2018 to be assured of consideration. Comments received after that date will be considered to the extent practicable.

ADDRESSES: Comments concerning this notice should be addressed to Carl Maass, Natural Resources Research Center, 2150 Centre Ave., Building A, Suite 316, Fort Collins, CO 80526. Comments also may be submitted via facsimile to (202) 205-1045 or by Email to: tsc_op_admin_forms@fs.fed.us.

All comments, including names and addresses when provided, are placed in the record and are available for public inspection and copying. The public may inspect comments received at the Office of the Director, Forest Management, Third Floor, Southwest Wing, Yates Building, 201 14th Street SW., Washington, DC. Visitors are encouraged to call ahead at (202) 205-1496 to facilitate entry into the building.

FOR FURTHER INFORMATION CONTACT: Carl Maass, Forest Management Staff, at (970) 295-5961. Individuals who use telecommunication devices for the deaf (TDD) may call the Federal Relay Service (FRS) at 1-800-877-8339, 24 hours a day, every day of the year, including holidays.

SUPPLEMENTARY INFORMATION: Title: Timber Sale Contract Operations and Administration.

OMB Number: 0596-0225.

Expiration Date of Approval: May 31, 2018.

Type of Request: Renewal without Change.

Abstract: Forest Service contracts for the sale of timber and other forest products are bilateral contracts in which both contracting parties are bound to fulfill obligations reciprocally. By their nature, bilateral contracts require both parties to routinely share information and enter into agreements pertaining to operations and performance. Some information collected under Forest Service contracts is required by laws, regulations, and/or timber sale policies. Each contract specifies information the contractor will be required to provide, including the timing and frequency of the information collection.

The type and amount of information collected varies depending on the size, complexity, and length of each contract, and external factors such as weather and market conditions. The information collected includes plans, requests, agreements, and notices necessary for operations under the terms of the contracts. Forest Service officers collect the information from contractors who may be individuals, private sector businesses, or other government entities. The information is submitted in a variety of formats including Forest Service forms, Government Standard and/or Common Forms, forms developed by individual contractors, charts, maps, email messages, facsimiles, and letters. Also, to assist small contractors and lessen their burden, individual Contracting Officers may provide optional forms for some of the information collected.

Depending on the purpose of the specific information collection, the information may be submitted by electronic mail, facsimile, conventional mail, or hand delivery. The information is needed by the Agency for a variety of uses associated with the operations and administration of contracts for the sale of timber and other forest products, in order to: (1) Plan and schedule contract administration workloads, (2) plan and schedule the delivery of government furnished materials needed by contractors, (3) assure the safety of the public in the vicinity of contract work, (4) identify contractor resources that may be used in emergency fire-fighting situations, (5) determine contractor eligibility for additional contract time, (6) determine contractor eligibility for re-determining contract rates, (7) monitor compliance with domestic processing requirements, (8) monitor compliance with Small Business Administration requirements, (9) process agreements and modifications, (10) inspect and accept work and (11) properly process payment bonds.

Forms Associated With This Information Collection

FS-2400-0076 Pre-Award Waiver, Release, and Limitation of Liability Agreement: This form was developed for limited use when the apparent high bidder of a sale that is the subject of litigation requests to have the sale awarded prior to the litigation being resolved.

The following forms are available for optional use by timber sale purchasers. These forms were developed to assist small purchasers in submitting all of the information that the contract requires be included in these plans and schedules:

FS-2400-0077 General Plan of Operation. No changes.

FS-2400-0078 Annual Operating Schedule. No changes.

FS-2400-0079 Specified Road Schedule of Proposed Progress. No changes.

The following forms are for mandatory use when purchaser requests changes to the terms of the contract:

FS-2400-0010 Agreement Extend and Modify Timber Sale or Integrated Resource Timber Contract. This form is required to be used when a contract is extended or modified under the terms of the contract. No changes.

FS-2400-0011 Waiver of Time Limit: Required for use when additional time is needed for a Purchaser to complete non-timber removal work after the contract terminates. No changes.

FS-2400-0012 Third Party Agreement: Required for use when a Purchaser requests that another party take over operational responsibility for timber sale contract. No changes.

FS-2400-0016 Request for Cooperative Work: Required for use when a Purchaser requests Forest Service to assume the Purchaser's obligation to perform work under the contract. No changes.

The following forms are for mandatory use when purchaser requests the use of a Performance Bond or Blanket Payment Bond on the contract:

FS-6500-12 Payment Bond (for Timber Sales and Stewardship Contracts). No changes.

FS-6500-12a Blanket Payment Bond. No changes.

Type of Respondents: Timber sale and forest products contractors.

Estimated Annual Number of Contracts: 3,400.

Estimated Annual Number of Respondents: 1,370.

Estimated Annual Responses: 128,100.

Estimated Annual Number of Responses per Respondent: 93.5.

Estimated Total Annual Burden on Respondents: 40,700 hours.

Estimate of Average Burden per Response: 0.32 hours.

To see forms displaying versions currently in use can be viewed on the World Wide Web/Internet site at: https://www.fs.fed.us/forestmanagement/products/2018-forms-update.shtml, and in the Office of the Director, Forest Management, Third Floor, Southwest Wing, Yates Building, 201 14th Street SW., Washington, DC. Visitors are encouraged to call ahead at (202) 205-1496 to facilitate entry into the building.

Comment Is Invited

Comment is invited on: (1) Whether the proposed collection of information is necessary for the stated purposes or the proper performance of the functions of the agency, including whether the information shall have practical or scientific utility; (2) the accuracy of the agency's estimate of the burden of the proposed collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including name and address when provided, will be summarized and included in the request for Office of Management and Budget approval. All comments also will become a matter of public record.

Dated: November 15, 2017.
Christopher French,
Associate Deputy Chief, National Forest System.

[FR Doc. 2017-25958 Filed 12-1-17; 8:45 am]

BILLING CODE 3411-15-P